ENVIRONMENTAL PROTECTION AGENCY

[FRL-9282-7]

Proposed CERCLA Administrative Cost Recovery Settlement; Eugenio Painting Company

AGENCY: Environmental Protection Agency.

ACTION: Notice; request for public comment.

SUMMARY: In accordance with Section 122(i) of the Comprehensive Environmental Response, Compensation, and Liability Act, as amended (“CERCLA”), 42 U.S.C. 9622(i), notice is hereby given of a proposed administrative settlement for recovery of past response costs concerning the Industrial Street Drum Site in Dearborn, Michigan with the following settling party: Eugenio Painting Company. The settlement requires the settling party to pay $20,000 to the Hazardous Substance Superfund. The settlement includes a covenant not to sue the settling party pursuant to Section 107(a) of CERCLA, 42 U.S.C. 9607(a). For thirty (30) days following the date of publication of this notice, the Agency will receive written comments relating to the settlement. The Agency will consider all such comments received and may modify or withdraw its consent to the settlement if comments received disclose facts or considerations which indicate that the settlement is inappropriate, improper, or inadequate.

DATES: Written comments on the proposed settlement must be received by EPA's designee on or before close of business on April 18, 2011 to be assured of consideration.

ADDRESSES: Comments should reference the Industrial Street Drum Site and should be addressed to Robert H. Smith, U.S. EPA, 77 W. Jackson Blvd (C-14J), Chicago, IL 60604-3590.

FOR FURTHER INFORMATION CONTACT: Robert H. Smith, U.S. EPA, 77 W. Jackson Blvd (C-14J), Chicago, IL 60604-3590, 312-886-0765. A copy of the proposed settlement and the Agency's response to any comments received may be obtained from the above contact as well. Additional background information relating to the settlement is available for review at the EPA's Region 5 Office of Regional Counsel.

Authority: 42 U.S.C. 9601-9675.

Dated: March 2, 2011.
Douglas E. Ballotti,
Acting Director, Superfund Division, Region 5.

[FR Doc. 2011-6415 Filed 3-17-11; 8:45 am]

BILLING CODE 6560-50-P